DEPARTMENT OF ENERGY

Federal Energy Regulatory Commission

[Docket No. AD02-15-000]

Conference on Emergency Reallocation of Natural Gas; Notice of Technical Conference and Agenda

April 16, 2002.

As announced in the Notice of Conference issued April 2, 2002, staff from the Federal Energy Regulatory Commission (FERC or Commission) and from the Department of Energy (DOE) will convene a technical conference on April 23, 2002 at 9 a.m. in the Commission Meeting Room (2C) to begin discussions with interested parties on whether and how to clarify, expedite and streamline processes for reallocating natural gas among shippers, pipelines, and local distribution companies (LDCs) in today's non-vertically integrated industry in the event of a disaster, whether natural or otherwise.

The conference Agenda is appended to this Notice. Transcripts of the conference will be available from Ace Reporting Company (202-347-3700), for a fee. The transcript will be available on the Commission's RIMS system two weeks after the conference.

For additional information, please contact Carol Connors in the Office of External Affairs at carol.connors@ferc.gov.

Magalie R. Salas,
Secretary.

Conference on Emergency Reallocation of Natural Gas April 23, 2002.

9 a.m. Opening Remarks—FERC and DOE

9:10 a.m. Formal Presentations

Presentations on the existing authorities concerning emergency reallocation.

Robert F. Christin, Energy Projects, Lead Counsel, Office of the General Counsel

Donald A. Juckett, Director, Natural Gas and Petroleum Import/Export Activities, Department of Energy, Office of Fossil Energy

9:50 a.m. Panel I—Regulatory Perspectives

Panel Members

Commissioner Charles R. Matthews, Texas Railroad Commission

Phil Teumim, Director, Office of Gas and Water, New York State Public Service Commission

Representative from the Office of Homeland Security—Invited

Representative from the National Governors Association—Invited

10:30 a.m. Facilitated Discussion

30 Minute facilitated discussion among panel members.

11:00 a.m. Question and Answer Session

15 minutes for questions from the audience.

11:15 a.m. Break

11:30 a.m. Introduction of Next Panel

11:35 a.m. Panel II—Industry and Other Perspectives

Richard Smead, Vice President, Regulatory Policy, El Paso Pipeline Group

Janice Alperin, Associate General Counsel, El Paso Pipeline Group

Dena Wiggins, General Counsel, Process Gas Consumers

Mike Linn, President, Allegheny Interests

Mark Haskell, Partner, Brunekant & Haskell (for Natural Gas Supply Association)

Jack Cashin, Senior Manager Policy, Electric Power Supply Association

Richard McMahon, EEI Group Director, Edison Electric Institute

LDC Representative from the Natural Gas Council—Invited

12:55 p.m. Facilitated Discussion

30 Minute facilitated discussion among panel members.

1:25 p.m. Question and Answer Session

15 minutes for questions from the audience.

1:40 p.m. Closing Remarks

[FR Doc. 02-9896 Filed 4-22-02; 8:45 am]

BILLING CODE 6717-01-P